INTERNATIONAL TRADE COMMISSION

[Investigation No. 337-TA-1228]

Certain Automated Storage and Retrieval Systems, Robots, and Components Thereof; Institution of Investigation

AGENCY: U.S. International Trade Commission.

ACTION: Notice.

SUMMARY: Notice is hereby given that a complaint was filed with the U.S. International Trade Commission on October 1, 2020, under section 337 of the Tariff Act of 1930, as amended, on behalf of AutoStore Technology AS of Norway; AutoStore AS of Norway; and AutoStore System Inc. of Derry, New Hampshire. A supplement to the complaint was filed on October 22, 2020. The complaint, as supplemented, alleges violations of section 337 based on the importation into the United States, the sale for importation, and the sale within the United States after importation of certain automated storage and retrieval systems, robots, and components thereof by reason of infringement of certain claims of U.S. Patent No. 10,093,525 (“the '525 patent”); U.S. Patent No. 10,294,025 (“the '025 patent”), U.S. Patent No. 10,474,140 (“the '140 patent”); U.S. Patent No. 10,494,239 (“the '239 patent”); and U.S. Patent No. 10,696,478 (“the '478 patent”). The complaint further alleges that an industry in the United States exists as required by the applicable Federal Statute. The complainants request that the Commission institute an investigation and, after the investigation, issue a limited exclusive and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Katherine Hiner, Office of Docket Services, U.S. International Trade Commission, telephone (202) 205-1802.

SUPPLEMENTARY INFORMATION:

Authority: The authority for institution of this investigation is contained in section 337 of the Tariff Act of 1930, as amended, 19 U.S.C. 1337, and in section 210.10 of the Commission's Rules of Practice and Procedure, 19 CFR 210.10 (2020).

Scope of Investigation: Having considered the complaint, the U.S. International Trade Commission, on November 2, 2020, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1-6 of the '525 patent; claims 1 and 18-20 of the '025 patent; claims 1-4 and 11-15 of the '140 patent; claims 1, 2, and 5-15 of the '239 patent; and claim 19 of the '478 patent; and whether an industry in the United States exists as required by subsection (a)(2) of section 337;

(2) Pursuant to section 210.10(b)(1) of the Commission's Rules of Practice and Procedure, 19 CFR 210.10(b)(1), the plain language description of the accused products or category of accused products, which defines the scope of the investigation, is “robots, grid systems (including tracks on top to allow for the movement of the robots), storage bins, controllers, and components (including software)”;

(3) For the purpose of the investigation so instituted, the following are hereby named as parties upon which this notice of investigation shall be served:

(a) The complainants are:

AutoStore Technology AS, Stokkastrandvegen 85, 5578 Nedre Vats, Norway

AutoStore AS, Stokkastrandvegen 85, 5578 Nedre Vats, Norway

AutoStore System Inc., 3 Corporate Park Drive, Unit 1, Derry, NH 03038

(b) The respondents are the following entities alleged to be in violation of section 337, and are the parties upon which the complaint is to be served:

Ocado Group Plc, Buildings One & Two, Trident Place, Mosquito Way, Hatfield, Hertfordshire, AL10 9UL, United Kingdom

Ocado Central Services Ltd., Buildings One & Two, Trident Place, Mosquito Way, Hatfield, Hertfordshire, AL10 9UL, United Kingdom

Ocado Innovation Ltd., Buildings One & Two, Trident Place, Mosquito Way, Hatfield, Hertfordshire, AL10 9UL, United Kingdom

Ocado Operating Ltd., Buildings One & Two, Trident Place, Mosquito Way, Hatfield, Hertfordshire, AL10 9UL, United Kingdom

Ocado Solutions, Ltd., Buildings One & Two, Trident Place, Mosquito Way, Hatfield, Hertfordshire, AL10 9UL, United Kingdom

Ocado Solutions USA Inc., 1600 Tysons Boulevard, 4th Floor, Tysons Corner, VA 22102

Tharsus Group Ltd., Coniston Rd, Blyth, Northumberland, NE24 4RF, United Kingdom

Printed Motor Works Ltd., Newman Lane, Alton, Hampshire GU34 2QW, United Kingdom

(4) For the investigation so instituted, the Chief Administrative Law Judge, U.S. International Trade Commission, shall designate the presiding Administrative Law Judge. The Office of Unfair Import Investigations will not participate as a party in this investigation.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainants of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: November 2, 2020.
Lisa Barton,
Secretary to the Commission.

[FR Doc. 2020-24637 Filed 11-5-20; 8:45 am]

BILLING CODE 7020-02-P